DEPARTMENT OF THE INTERIOR

Fish and Wildlife Service

Harvest and Export of American Ginseng

AGENCY: Fish and Wildlife Service, Interior.

ACTION: Notice: request for information from the public; announcement of public meetings.

SUMMARY: We, the U.S. Fish and Wildlife Service (Service), announce public meetings on American ginseng (Panax quinquefolius). These meetings will help us gather information from the public in preparation of our 2006 findings on the export of American ginseng roots, for the issuance of permits under the Convention on International Trade in Endangered Species of Wild Fauna and Flora (CITES).

DATES: The meeting dates are:

1. January 31, 2006, 2:30 p.m. to 6 p.m., Moon Township (Pittsburgh), PA.

2. February 10, 2006, 8 a.m. to 12 noon, Asheville, NC.

3. February 15, 2006, 8 a.m. to 12 noon, Indianapolis, IN.

ADDRESSES: The meeting locations are:

1. Moon Township (Pittsburgh)—DoubleTree Hotel, 8402 University Blvd., Moon Township, PA 15108; telephone number (412) 329-1400.

2. Asheville—Holiday Inn, 1450 Tunnel Road, Asheville, NC 28805; telephone number (828) 298-5611.

3. Indianapolis—Hampton Inn, Indianapolis Airport, 5601 Fortune Circle West, Indianapolis, IN 46241; telephone number (317) 244-1221.

FOR FURTHER INFORMATION CONTACT: For further information, or directions to meetings contact Ms. Pat Ford, Division of Scientific Authority, U.S. Fish and Wildlife Service, 4401 N. Fairfax Drive, Room 750, Arlington, VA 22203; 703-358-1708 (telephone), 703-358-2276 (fax), or patricia_ford@fws.gov (e-mail); or Ms. Anne St. John, Division of Management Authority, U.S. Fish and Wildlife Service, 4401 N. Fairfax Drive, Room 700, Arlington, VA 22203; 703-358-2095 (telephone), 703-358-2298 (fax), or anne_stjohn@fws.gov (e-mail).

SUPPLEMENTARY INFORMATION:

Background

The Convention on International Trade in Endangered Species of Wild Fauna and Flora (CITES, or Convention) is an international treaty designed to control and regulate international trade in certain animal and plant species that are now or potentially may be threatened with extinction by international trade. Currently, 169 countries, including the United States, are Parties to CITES. The species for which trade is controlled are listed in Appendix I, II, or III of the Convention. Appendix I includes species threatened with extinction that are or may be affected by international trade. Commercial trade in Appendix-I species is prohibited. Appendix II includes species that, although not necessarily threatened with extinction at the present time, may become so unless their trade is strictly controlled through a system of export permits. Appendix II also includes species that CITES must regulate so that trade in other listed species may be brought under effective control (i.e., because of similarity of appearance between listed species and other species). Appendix III comprises species subject to regulation within the jurisdiction of any CITES Party country that has requested the cooperation of the other Parties in regulating international trade in the species.

American ginseng (Panax quinquefolius) was listed in Appendix II of CITES on July 1, 1975. The Division of Scientific Authority and the Division of Management Authority of the Service regulate the export of American ginseng, including whole plants, whole roots, and root parts. To meet CITES requirements for export of American ginseng from the United States, the Division of Scientific Authority must determine that the export will not be detrimental to the survival of the species, and the Division of Management Authority must be satisfied that the American ginseng roots to be exported were legally acquired.

Since the inclusion of American ginseng in CITES Appendix II, the Divisions of Scientific Authority and Management Authority have issued findings on a State by State basis. To determine whether or not to approve exports of American ginseng, the Division of Scientific Authority has annually reviewed available information from various sources (other Federal agencies, State regulatory agencies, industry and associations, nongovernmental organizations, and academic researchers) on the biology and trade status of the species. After a thorough review, the Division of Scientific Authority makes a non-detriment finding and the Division of Management Authority makes a legal acquisition finding on the export of American ginseng to be harvested during the year in question. From 1999 through 2004, the Division of Scientific Authority included in its non-detriment finding for the export of wild (including wild-simulated and woodsgrown) American ginseng roots an age-based restriction (i.e., plants must be at least 5 years old). In 2005, the Division of Scientific Authority included in its non-detriment findings for the export of wild American ginseng roots an age-based restriction that plants must be at least 10 years old, and for the export of wild-simulated and woodsgrown American ginseng roots that plants must be at least 5 years old.

States with harvest programs for wild and/or artificially propagated American ginseng are: Alabama, Arkansas, Georgia, Idaho, Illinois, Indiana, Iowa, Kentucky, Maine, Maryland, Michigan, Minnesota, Missouri, New York, North Carolina, North Dakota, Ohio, Oregon, Pennsylvania, Tennessee, Vermont, Virginia, Washington, West Virginia, and Wisconsin.

The Divisions of Scientific Authority and Management Authority will host an American ginseng workshop from January 31 through February 2, 2006, in Moon Township, Pennsylvania, with representatives of State and Federal agencies that regulate the species, to discuss the status and management of American ginseng and the CITES export program for the species. This workshop will provide an important opportunity for representatives of the States and Federal agencies to discuss and consider improvements to the CITES export program for this species. Except for sessions on January 31 at this location, and the two public meetings on other dates in other locations (see Public Meetings), this meeting will be closed to the public.

Information from the 2006 U.S. Fish and Wildlife Service's American ginseng workshop will be available in April 2006 upon request from the Division of Scientific Authority or the Division of Management Authority (see FOR FURTHER INFORMATION CONTACT); a copy of the workshop report will also be available from our Web site at: http://www.fws.gov/international/animals/ginindx/.html.

Public Meetings

At the January 31, 2006, Moon Township (Pittsburgh) meeting, we invite the public to listen to academic and federal researchers present their current research on American ginseng from 8 a.m. to 12:30 p.m.; representatives of the American ginseng industry and other stakeholders will speak from 1:30 to 2:30. This will be the only meeting and location at which the public can hear these presentations. After the morning's presentations, from 2:30 p.m. to 6 p.m., we will hold an open public meeting (a listening session) to hear from people involved or interested in American ginseng harvest and trade. We are particularly interested in obtaining any current information on the status of American ginseng in the wild, or other pertinent information that would contribute to improve the CITES export program for this species. We will discuss the Federal regulatory framework for the export of American ginseng and how these regulations control the international trade of this species. We will also discuss the different CITES definitions as they are applied to American ginseng grown under different production systems and how these systems affect the export of American ginseng roots.

The two open public meetings that follow the January meeting, on February 10 and February 15, 2006 (in Asheville and Indianapolis, respectively—see DATES and ADDRESSES), will also be open public meetings to hear from people involved or interested in American ginseng harvest and trade.

You may get directions to the meeting locations from the Division of Scientific Authority or the Division of Management Authority (see FOR FURTHER INFORMATION CONTACT or ADDRESSES). Persons planning to attend the January 31, 2006 meeting who require interpretation for the hearing impaired must notify the Division of Scientific Authority by January 23, 2006; for the other two meetings, please notify the Division of Scientific Authority as soon as possible (see FOR FURTHER INFORMATION CONTACT).

Author

The primary author of this notice is Patricia Ford, the Division of Scientific Authority, U.S. Fish and Wildlife Service.

Dated: December 20, 2005.
Marshall P. Jones, Jr.,
Acting Director, Fish and Wildlife Service.

[FR Doc. E5-8014 Filed 12-28-05; 8:45 am]

BILLING CODE 4310-55-P